DEPARTMENT OF ENERGY

Federal Energy Regulatory Commission

Combined Notice of Filings #1

September 22, 2009.

Take notice that the Commission received the following electric corporate filings:

Docket Numbers: EC09-103-000.

Applicants: Dynegy Arlington Valley, LLC, Dynegy Inc., Dynegy Midwest Generation, Inc., Bluegrass Generation Company, L.L.C., Renaissance Power, L.L.C, Griffith Energy LLC, Rocky Road Power, LLC, Riverside Generating Company, LLC, Bridgeport Energy, LLC, LS Power Development, LLC, Tilton Energy LLC.

Description: Supplemental Information Clarifying Application for Approval under Section 203 of Federal Power Act of LS Power Development, LLC, et. al.

Filed Date: 09/21/2009.

Accession Number: 20090921-5078.

Comment Date: 5 p.m. Eastern Time on Thursday, October 01, 2009.

Take notice that the Commission received the following exempt wholesale generator filings:

Docket Numbers: EG09-94-000.

Applicants: Dry Lake Wind Power, LLC.

Description: Notice of Self-Certification of Exempt Wholesale Generator Status of Dry Lake Wind Power, LLC.

Filed Date: 09/22/2009.

Accession Number: 20090922-5046.

Comment Date: 5 p.m. Eastern Time on Tuesday, October 13, 2009.

Take notice that the Commission received the following electric rate filings:

Docket Numbers: ER98-1643-015.

Applicants: Portland General Electric Company.

Description: Portland General Electric Company Notification of Non-Material Change in Status.

Filed Date: 09/21/2009.

Accession Number: 20090921-5107.

Comment Date: 5 p.m. Eastern Time on Tuesday, October 13, 2009.

Docket Numbers: ER08-378-002; ER03-1085-007; ER05-1398-004; ER06-1257-003; ER07-426-003; ER09-1028-002; ER09-560-001; ER09-826-001.

Applicants: Covanta Hempstead Company Covanta Union, Inc.; Covanta Niagara, L.P.; Covanta Essex Company; Covanta Delaware Valley, L.P.; Covanta Delano, Inc.; Covanta Maine, LLC; Michigan Waste Energy, Inc.

Description: Covanta MBR Entities submits notice of non material change is status.

Filed Date: 09/18/2009.

Accession Number: 20090921-0121.

Comment Date: 5 p.m. Eastern Time on Friday, October 09, 2009.

Docket Numbers: ER08-394-024.

Applicants: Midwest Independent Transmission System Operator, Inc.

Description: Midwest Independent Transmission System Operator, Inc submits a compliance filing addressing congestion that may limit aggregate deliverability of Planning Resources etc.

Filed Date: 08/18/2009.

Accession Number: 20090819-0624.

Comment Date: 5 p.m. Eastern Time on Friday, October 02, 2009.

Docket Numbers: ER08-1317-005; ER09-1722-000.

Applicants: California Independent System Operator Corporation.

Description: California Independent System Operator Corporation submits amendment to the ISO tariff provisions on generator interconnection process reform.

Filed Date: 09/18/2009.

Accession Number: 20090921-0123.

Comment Date: 5 p.m. Eastern Time on Friday, October 09, 2009.

Docket Numbers: ER09-1312-001; ER09-1313-001.

Applicants: Riverside Energy Center, LLC; RockGen Energy, LLC.

Description: Riverside Energy Center, LLC et al submits settlement materials.

Filed Date: 09/18/2009.

Accession Number: 20090921-0120.

Comment Date: 5 p.m. Eastern Time on Friday, October 09, 2009.

Docket Numbers: ER09-1645-001.

Applicants: Devonshire Energy LLC.

Description: Devonshire Energy LLC submits amended and restated application for authorization to make wholesale sales of energy and capacity at negotiated, market based rates.

Filed Date: 09/21/2009.

Accession Number: 20090921-0133.

Comment Date: 5 p.m. Eastern Time on Tuesday, October 13, 2009.

Take notice that the Commission received the following open access transmission tariff filings:

Docket Numbers: OA08-81-001.

Applicants: NorthWestern Corporation.

Description: NorthWestern Corporations submits Substitute First Revised Sheet 15 et al to its FERC Electric Tariff, Second Revised Volume 2.

Filed Date: 09/18/2009.

Accession Number: 20090921-0122.

Comment Date: 5 p.m. Eastern Time on Friday, October 09, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-23347 Filed 9-25-09; 8:45 am]

BILLING CODE 6717-01-P